DEPARTMENT OF ENERGY

Federal Energy Regulatory Commission

Combined Notice of Filings #2

Take notice that the Commission received the following electric corporate filings:

Docket Numbers: EC13-7-000.

Applicants: Bangor Hydro Electric Company.

Description: Application Under FPA Section 203 of Bangor Hydro Electric Company.

Filed Date: 10/05/2012.

Accession Number: 20121005-5154.

Comment Date: 5:00 p.m. Eastern Time on Friday, October 26, 2012.

Take notice that the Commission received the following electric rate filings:

Docket Numbers: ER13-32-000.

Applicants: Topaz Solar Farms LLC.

Description: Topaz Solar Farms LLC submits tariff filing per 35.13(a)(2)(iii): Designation Change Filing to be effective 12/4/2012.

Filed Date: 10/05/2012.

Accession Number: 20121005-5118.

Comment Date: 5:00 p.m. Eastern Time on Friday, October 26, 2012.

Docket Numbers: ER13-33-000.

Applicants: Collegiate Clean Energy, LLC.

Description: Collegiate Clean Energy, LLC submits tariff filing per 35.12: Market-Based Rate Tariff to be effective 11/5/2012.

Filed Date: 10/05/2012.

Accession Number: 20121005-5137.

Comment Date: 5:00 p.m. Eastern Time on Friday, October 26, 2012.

Docket Numbers: ER13-34-000.

Applicants: Ingenco Holdings, LLC.

Description: Ingenco Holdings, LLC submits tariff filing per 35.12: Market-Based Rate Tariff to be effective 11/5/2012.

Filed Date: 10/05/2012.

Accession Number: 20121005-5142.

Comment Date: 5:00 p.m. Eastern Time on Friday, October 26, 2012.

Docket Numbers: ER13-35-000.

Applicants: San Diego Gas & Electric Company.

Description: San Diego Gas & Electric Company submits tariff filing per 35.13(a)(2)(iii): Revision to SDGE FERC Electric Tariff Volume 10 to be effective 10/8/2012.

Filed Date: 10/05/2012.

Accession Number: 20121005-5155.

Comment Date: 5:00 p.m. Eastern Time on Friday, October 26, 2012.

Docket Numbers: ER13-36-000.

Applicants: Flat Ridge Wind Energy, LLC.

Description: Flat Ridge Wind Energy, LLC submits tariff filing per 35.13(a)(2)(iii): Updated Market-Based Rate Tariff Update to be effective 12/4/2012.

Filed Date: 10/05/2012.

Accession Number: 20121005-5168.

Comment Date: 5:00 p.m. Eastern Time on Friday, October 26, 2012.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 05, 2012.
Nathaniel J. Davis, Sr.,
Deputy Secretary.

[FR Doc. 2012-25340 Filed 10-15-12; 8:45 am]

BILLING CODE 6717-01-P